DEPARTMENT OF HEALTH AND HUMAN SERVICES

Food and Drug Administration

[Docket No. FDA-1986-F-0277] (formerly Docket No. 1986F-0364)

Danisco USA, Inc.; Withdrawal of Food Additive Petition

AGENCY: Food and Drug Administration, HHS.

ACTION: Notice.

SUMMARY: The Food and Drug Administration (FDA) is announcing the withdrawal, without prejudice to a future filing, of a food additive petition (FAP 6A3958) proposing that the food additive regulations be amended to provide for the safe use of alitame as a sweetening agent or flavoring in food.

FOR FURTHER INFORMATION CONTACT: Blondell Anderson, Center for Food Safety and Applied Nutrition (HFS-265), Food and Drug Administration, 5100 Paint Branch Pkwy., College Park, MD 20740-3835, 301-436-1304.

SUPPLEMENTARY INFORMATION: In a notice published in the Federal Register of September 29, 1986 (51 FR 34503), FDA announced that a food additive petition (FAP 6A3958) had been filed by Pfizer Central Research, Pfizer, Inc., 565 Taxter Rd., suite 590, Elmsford, NY 10523. The petition proposed to amend the food additive regulations in part 172 Food Additives Permitted for Direct Addition to Food for Human Consumption (21 CFR part 172) to provide for the safe use of alitame (L-α-aspartyl-N-2,2,4,4-tetramethyl-3-thietanyl)-D-alaninamide (CAS Reg. No. 80863-62-3) as a sweetening agent or flavoring in food. The rights to the petition currently belong to Danisco USA, Inc., 440 Saw Mill River Rd., Ardsley, NY 10502-2605. Danisco USA, Inc., has now withdrawn the petition without prejudice to a future filing (21 CFR 171.7).

Dated: June 12, 2008.
Laura M. Tarantino,
Director, Office of Food Additive Safety, Center for Food Safety and Applied Nutrition.

[FR Doc. E8-13998 Filed 6-19-08; 8:45 am]

BILLING CODE 4160-01-S